DELAWARE RIVER BASIN COMMISSION

Notice of Commission Meeting and Public Hearing

Notice is hereby given that the Delaware River Basin Commission will hold an informal conference followed by a public hearing on Wednesday, February 28, 2001. The hearing will be part of the Commission's regular business meeting. Both the conference session and business meeting are open to the public and will be held at the Commission offices at 25 State Police Drive, West Trenton, New Jersey.

The conference among the Commissioners and staff will begin at 10 a.m. Topics of discussion will include a progress report on the Commission's Comprehensive Plan; the status of a proposed rulemaking to amend the Comprehensive Plan with respect to water usage reporting requirements; issues relating to development of the PCB TMDL for the Delaware Estuary; a preliminary issues paper for the Flow Management Study; a proposal to institute project review upon retirement of entitlements; and creation of a Delaware Estuary Program office at the Commission. Summaries of the following meetings will be presented: the Toxics Advisory Committee meetings of January 11 and February 26 and the inaugural meeting of the Information Management Advisory Committee on February 1.

The subjects of the public hearing to be held during the 1:30 p.m. business meeting include the dockets listed below:

1. SPS Technologies D-79-88 RENEWAL 3. A ground water withdrawal renewal project to supply up to 8.7 million gallons (mg)/30 days of water to the applicant's manufacturing plant from existing Well No. 7 in the Upper Reach Frankford Creek watershed. No increase in allocation is proposed. The project is located in Abington Township, Montgomery County in the Southeastern Pennsylvania Ground Water Protected Area.

2. Lawrenceville Water Company D-83-26 CP RENEWAL 2. A ground water withdrawal renewal project to supply up to 21.7 mg/30 days of water to the applicant's public water distribution system from Wells Nos. 4, 5, 6 and 9 in the Stockton Formation. Commission approval on January 12, 1990 was limited to 10 years. The applicant requests that the total withdrawal from all wells remain limited to 21.7 mg/30 days. The project is located in Lawrence Township, Mercer County, New Jersey.

3. Bristol Township D-90-98 CP. A project to rerate the applicant's existing 2.25 million gallons per day (mgd) secondary level treatment Croydon Sewage Treatment Plant (STP) to 3.0 mgd and to revise the service area to allow Subdistricts 2, 3 and 4 and the Keystone Industrial Sewer District (Keystone) to convey their sewage directly to the Croydon STP, which currently serves Subdistrict 1. Treated effluent will continue to discharge to the Delaware River in Water Quality Zone 2. The Croydon STP is located on River Road near the Delaware River, approximately 1.3 miles upstream of the Neshaminy Creek confluence in Bristol Township, Bucks County, Pennsylvania.

4. Delaware State University D-99-76. A ground water withdrawal project to supply up to 5 mg/30 days of water to the applicant's research facility from new North Well No. 2 and new South Well No. 1 located in the Cheswold aquifer, and to limit the withdrawal from all wells to 5 mg/30 days. The project is located in the City of Dover, Kent County, Delaware.

5. Warminster Township Municipal Authority D-2000-19 CP. A ground water withdrawal project to supply up to 10.8 mg/30 days of water to the applicant's public water distribution system from new Well No. NATC-10 in the Stockton Formation, and to limit the withdrawal from all wells to 124.8 mg/30 days. The project is located in Warminster Township, Bucks County in the Southeastern Pennsylvania Ground Water Protected Area.

6. East Marlborough Township D-2000-43 CP. A project to expand the Wollaston Road 0.125 mgd STP and spray irrigation system to provide secondary treatment of 0.292 mgd. The proposed Unionville Regional STP will include the combined flows from the Baltimore Pike STP (0.15 mgd), the Wollaston Road wastewater treatment plant (0.125 mgd), and the Dolkeith Farms STP (0.015 mgd). The project is located just north of Street Road, approximately 1,500 feet west of Route 82, in East Marlborough Township, Chester County, Pennsylvania, in Water Quality Zone C-5 of the West Branch Red Clay Creek watershed. No surface water discharge is proposed and 0.15 mgd of the Baltimore Pike STP effluent that currently discharges to East Branch Red Clay Creek will be conveyed to the proposed regional plant for treatment and spray application.

7. Borough of Quakertown D-2000-64 CP. A project to replace the withdrawal of water from Wells Nos. 5 and 6 in the applicant's public water supply system that have become unreliable sources of supply. The applicant requests that the withdrawal from replacement Well No. 8 in the Brunswick Formation be limited to 9 mg/30 days, and that the total withdrawal from all wells remain limited to 51.1 mg/30 days. The project is located in the Tohickon Creek watershed in Quakertown Borough and Richland Township, Bucks County in the Southeastern Pennsylvania Ground Water Protected Area.

8. Berks-Montgomery Municipal Authority D-2000-70 CP. A project to rerate the applicant's existing 1.9 mgd tertiary level treatment Swamp Creek STP to treat a maximum monthly flow of 2.1 mgd; the annual average flow will remain 1.9 mgd. The plant is located one-half mile east of the intersection of Congo Road and Swamp Pike in Douglass Township, Montgomery County, Pennsylvania and will continue to serve the Boroughs of Bechtelsville and Boyertown and portions of Colebrookdale and Washington Townships in Berks County; and a portion of Douglass Township in Montgomery County. Treated effluent will continue to discharge to Swamp Creek in the Perkiomen Creek watershed.

In addition to the public hearing, the Commission will address the following at its 1:30 p.m. business meeting: minutes of the January 9, 2001 business meeting; announcements; report on hydrologic conditions in the basin; report by the Executive Director; public dialogue; and resolutions: (1) Authorizing the Executive Director to proceed with a facilitated two-day meeting of the Watershed Advisory Council including a consensus-building workshop; (2) authorizing the Executive Director to contract with the Delaware Department of Natural Resources and Environmental Control to implement elements of the Comprehensive Conservation and Management Plan for the Delaware Estuary; and (3) establishing a Delaware Estuary Program office to be housed at the Commission.

Documents relating to the dockets and other items may be examined at the Commission's offices. Preliminary dockets are available in single copies upon request. Please contact Thomas L. Brand at (609) 883-9500 ext. 221 with any docket-related questions. Persons wishing to testify at this hearing are requested to register in advance with the Secretary at (609) 883-9500 ext. 203.

Individuals in need of an accommodation as provided for in the Americans With Disabilities Act who wish to attend the hearing should contact the Commission Secretary, Pamela M. Bush, directly at (609) 883-9500 ext. 203 or through the New Jersey Relay Service at 1-800-852-7899 (TTY) to discuss how the Commission may accommodate your needs. Driving directions to the meeting location are posted on the Commission's web site, at http://www.drbc.net.

Dated: February 12, 2001.
Pamela M. Bush,
Commission Secretary.

[FR Doc. 01-4512 Filed 2-22-01; 8:45 am]

BILLING CODE 6360-01-P